DEPARTMENT OF HOMELAND SECURITY

Office of the Secretary

[Docket No. DHS-2008-0105]

Privacy Act of 1974; United States Coast Guard Auxiliary Database System of Records

AGENCY: Privacy Office; DHS.

ACTION: Notice of Privacy Act system of records.

SUMMARY: In accordance with the Privacy Act of 1974 and as part of the Department of Homeland Security's ongoing effort to review and update legacy system of records notices, the Department of Homeland Security is giving notice that it proposes to update and reissue the following legacy record system DOT/CG 501 Auxiliary Management Information System, April 11, 2000, as a Department of Homeland Security system of records notice titled United States Coast Guard Auxiliary Database. The Auxiliary Database is the United States Coast Guard's information system that tracks and reports contact, activity, performance, and achievement information about the members of its volunteer workforce element, the United States Coast Guard Auxiliary. Categories of individuals and categories of records have been reviewed, and the routine uses of this legacy system of records notice have been updated to better reflect the United States Coast Guard's Auxiliary Database record system. This new system will be included in the Department of Homeland Security's inventory of record systems.

DATES: Written comments must be submitted on or before November 6, 2008. This new system will be effective November 6, 2008.

ADDRESSES: You may submit comments, identified by docket number DHS-2008-0105 by one of the following methods:

• Federal e-Rulemaking Portal: http://www.regulations.gov. Follow the instructions for submitting comments.

• Fax: 1-866-466-5370.

• Mail: Hugo Teufel III, Chief Privacy Officer, Privacy Office, Department of Homeland Security, Washington, DC 20528.

• Instructions: All submissions received must include the agency name and docket number for this rulemaking. All comments received will be posted without change and may be read at http://www.regulations.gov, including any personal information provided.

• Docket: For access to the docket, to read background documents, or comments received, go to http://www.regulations.gov.

FOR FURTHER INFORMATION CONTACT: For general questions please contact: David Roberts (202-475-3521), Privacy Officer, United States Coast Guard. For privacy issues please contact: Hugo Teufel III (703-235-0780), Chief Privacy Officer, Privacy Office, U.S. Department of Homeland Security, Washington, DC 20528.

SUPPLEMENTARY INFORMATION:

I. Background

Pursuant to the savings clause in the Homeland Security Act of 2002, Public Law 107-296, Section 1512, 116 Stat. 2310 (November 25, 2002), the Department of Homeland Security (DHS)/United States Coast Guard (USCG) have relied on previous Privacy Act systems of records notices for the collection maintenance of records that concern the USCG Auxiliary Database (AUXDATA) system of records.

As part of its efforts to streamline and consolidate its record systems, DHS is updating and reissuing a DHS/USCG system of records under the Privacy Act (5 U.S.C. 552a) that deals with USCG Auxiliary program management. The collection and maintenance of this information will assist DHS/USCG in meeting its obligation to administer the USCG Auxiliary program.

In accordance with the Privacy Act of 1974 and as part of DHS's ongoing effort to review and update legacy system of records notices, DHS/USCG is giving notice that it proposes to update and reissue the following legacy record system DOT/CG 501 Auxiliary Management Information System (AUXMIS) (65 FR 19475 April 11, 2000) as a DHS/USCG system of records notice titled, Auxiliary Database (AUXDATA). The AUXDATA system is the USCG's information system that tracks and reports contact, activity, performance, and achievement information about the members of its volunteer workforce element, the USCG Auxiliary. Categories of individuals and categories of records have been reviewed, and the routine uses of this legacy system of records notice have been updated to better reflect DHS/USCG's AUXDATA record system. This new system will be included in DHS's inventory of record systems.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and legal permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR Part 5.

The Privacy Act requires each agency to publish in the Federal Register a description denoting the type and character of each system of records that the agency maintains, and the routine uses that are contained in each system in order to make agency record keeping practices transparent, to notify individuals regarding the uses of their records, and to assist individuals to more easily find such files within the agency. Below is the description of the AUXDATA System of Records.

In accordance with 5 U.S.C. 552a(r), DHS has provided a report of this new system of records to the Office of Management and Budget and to Congress.

System of Records

DHS/USCG-024

System name:

United States Coast Guard Auxiliary Database.

Security classification:

Unclassified.

System location:

Records are maintained at the USCG Headquarters in Washington, DC, the USCG Operations Systems Center in Martinsburg, WV, and field offices.

Categories of individuals covered by the system:

Categories of individuals covered by this system include all current and former USCG Auxiliarists.

Categories of records in the system:

Categories of records in this system include:

• Personal information (name, employee identification number, address, birth date, phone number);

• Auxiliary qualifications information (formal designations in program disciplines that result from successful completion of training regimens, for example: Class instructor, vessel examiner, boat coxswain, and certifications and licenses);

• Auxiliary activities information (patrols conducted, classes taught); and

• Information on facilities (boats, radio stations or aircraft-owned by Auxiliarists as well as facility identification numbers (e.g. boat license number).

Authority for maintenance of the system:

5 U.S.C. 301; The Federal Records Act, 44 U.S.C. 3101; 14 U.S.C. 632, 830, 831; COMDTINST M16790.1 (series).

Purpose(s):

This system is the primary management tool for the USCG Auxiliary program.

Routine uses of records maintained in the system, including categories of users and the purposes of such uses:

In addition to those disclosures generally permitted under 5 U.S.C. 552a(b) of the Privacy Act, all or a portion of the records of information contained in this system may be disclosed outside DHS as a routine use pursuant to 5 U.S.C. 552a(b)(3) as follows:

A. To the Department of Justice (including United States Attorney Offices) or other Federal agency conducting litigation or in proceedings before any court, adjudicative or administrative body when it is necessary to the litigation and one of the following is a party to the litigation or has an interest in such litigation:

1. DHS or any component thereof;

2. any employee of DHS in his/her official capacity;

3. any employee of DHS in his/her individual capacity where DOJ or DHS has agreed to represent the employee; or

4. the United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual who relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

Disclosure to consumer reporting agencies:

None.

Policies and practices for storing, retrieving, accessing, retaining, and disposing of records in the system:

Storage:

Records in this system are stored electronically or on paper in secure facilities in a locked drawer behind a locked door. The records are stored on tape at the USCG Operations Center in Martinsburg, WV.

Retrievability:

Information is retrieved by individual's name and employee identification number (EMPLID).

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

Retention and disposal are performed in accordance with USCG standard retention policies and back-up schedules established at the USCG Operations Systems Center in Martinsburg, WV. Back-ups are performed on tape, and tapes are overwritten for reusability purposes. Incremental back-ups are run six days each week and are kept for a minimum of two weeks. Full back-ups are run once each week and are kept for a minimum for four weeks. Quarterly full back-ups are run and kept for one year. Yearly full back-ups, run in January, are kept indefinitely.

System Manager and address:

United States Coast Guard, Office of Command, Control, Communications, Computers, and Sensors Capabilities (CG-761), United States Coast Guard, 2100 2nd Street, SW., Washington, DC 20593-0001. United States Coast Guard, Office of Auxiliary and Boating Safety (CG-542), United States Coast Guard, 2100 2nd Street, SW., Washington, DC 20593-0001.

Notification procedure:

Individuals seeking notification of and access to any record contained in this system of records, or seeking to contest its content, may submit a request in writing to United States Coast Guard, Office of Command, Control, Communications, Computers, and Sensors Capabilities (CG-761), United States Coast Guard, 2100 2nd Street, SW., Washington, DC 20593-0001. United States Coast Guard, Office of Auxiliary and Boating Safety (CG-542), United States Coast Guard, 2100 2nd Street, SW., Washington, DC 20593-0001.

When seeking records about yourself from this system of records or any other USCG system of records your request must conform with the Privacy Act regulations set forth in 6 CFR Part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-866-431-0486. In addition you should provide the following:

• An explanation of why you believe the Department would have information on you,

• Specify when you believe the records would have been created,

• If your request is seeking records pertaining to another living individual, you must include a statement from that individual certifying his/her agreement for you to access his/her records.

Without this bulleted information the USCG may not be able to conduct an effective search, and your request may be denied due to lack of specificity or lack of compliance with applicable regulations.

Record access procedures:

See “Notification procedure” above.

Contesting record procedures:

See “Notification procedure” above.

Record source categories:

All records pertaining to Auxiliary members are derived from forms filled out by the individuals on a voluntary basis.

Exemptions claimed for the system:

None.

Dated: September 30, 2008.
Hugo Teufel III,
Chief Privacy Officer, Department of Homeland Security.

[FR Doc. E8-23749 Filed 10-6-08; 8:45 am]

BILLING CODE 4410-10-P